DEPARTMENT OF ENERGY

10 CFR Parts 429 and 431

[Docket Number EERE-2014-BT-STD-0042]

RIN 1904-AD34

Energy Conservation Program: Energy Conservation Standards for Commercial Water Heating Equipment; Reopening of Comment Period

AGENCY: Office of Energy Efficiency and Renewable Energy, Department of Energy.

ACTION: Reopening of public comment period.

SUMMARY: On May 31, 2016, the U.S. Department of Energy (DOE) published in the Federal Register a notice of proposed rulemaking (NOPR) that proposed amended energy conservation standards for commercial water heaters. DOE published this NOPR so stakeholders can review and provide input on these proposed revisions. The comment period for the NOPR pertaining to the subject commercial water heating equipment was scheduled to end August 1, 2016. After receiving a number of requests for additional time to comment, DOE has decided to reopen the public comment period until August 30, 2016 for the purposes of submitting comments on the NOPR or any other aspect of the energy conservation standards rulemaking for commercial water heating equipment.

DATES: The comment period for the proposed rule published on May 31, 2016 (81 FR 34440) is reopened. DOE will accept comments, data, and information regarding the notice of proposed rulemaking received no later than August 30, 2016.

ADDRESSES: Instructions: Any comments submitted must identify the NOPR on Energy Conservation Standards for Commercial Water Heating Equipment, and provide docket number EERE-2014-BT-STD-0042 and/or regulatory information number (RIN) 1904-AD34. Comments may be submitted using any of the following methods:

1. Federal eRulemaking Portal: www.regulations.gov. Follow the instructions for submitting comments.

2. Email: ComWaterHeating2014STD0042@ee.doe.gov. Include the docket number and/or RIN in the subject line of the message. Submit electronic comments in WordPerfect, Microsoft Word, PDF, or ASCII file format, and avoid the use of special characters or any form of encryption.

3. Postal Mail: Ms. Ashley Armstrong, U.S. Department of Energy, Building Technologies Office, Mailstop EE-5B, 1000 Independence Avenue SW., Washington, DC 20585-0121. If possible, please submit all items on a compact disc (CD), in which case it is not necessary to include printed copies.

4. Hand Delivery/Courier: Appliance and Equipment Standards Staff, U.S. Department of Energy, Building Technologies Office, 950 L'Enfant Plaza SW., Suite 600, Washington, DC 20024. Telephone: (202) 586-6656. If possible, please submit all items on a CD, in which case it is not necessary to include printed copies.

No telefacsimilies (faxes) will be accepted. For detailed instructions on submitting comments and additional information on the rulemaking process, see the “Public Participation” section of the May 31, 2016 NOPR. 81 FR 34440, 34532-33.

Docket: The docket is available for review at www.regulations.gov, including Federal Register notices, public meeting attendee lists and transcripts, comments, and other supporting documents/materials. All documents in the docket are listed in the www.regulations.gov index. However, not all documents listed in the index may be publicly available, such as information that is exempt from public disclosure.

A link to the docket Web page can be found at: https://www.regulations.gov/docket?D=EERE-2014-BT-STD-0042. This Web page contains a link to the docket for this document on the www.regulations.gov site. The www.regulations.gov Web page contains simple instructions on how to access all documents, including public comments, in the docket. See section VII, “Public Participation,” of the May 31, 2016 NOPR for further information on how to submit comments through www.regulations.gov.

FOR FURTHER INFORMATION CONTACT:

Ms. Ashley Armstrong, U.S. Department of Energy, Office of Energy Efficiency and Renewable Energy, Building Technologies Office, EE-5B, 1000 Independence Avenue SW., Washington, DC 20585-0121. Telephone: (202) 586-6590. Email: Ashley.Armstrong@ee.doe.gov.

Mr. Eric Stas, U.S. Department of Energy, Office of the General Counsel, GC-33, 1000 Independence Avenue SW., Washington, DC 20585-0121. Telephone: (202) 586-9507. Email: Eric.Stas@hq.doe.gov.

SUPPLEMENTARY INFORMATION: On May 31, 2016, DOE published in the Federal Register a notice of proposed rulemaking (NOPR) that proposed amended energy conservation standards for commercial water heaters. 81 FR 34440. The NOPR provided opportunity for submitting written comments, data, and information regarding the proposed amendments for the subject equipment by August 1, 2016. However, DOE received a request from the Air-Conditioning, Heating, and Refrigeration Institute (AHRI), dated July 22, 2016, to provide an additional 90 days in which to submit comments pertaining to the rulemaking for commercial water heaters. AHRI's request can be found at: http://www.regulations.gov/document?D=EERE-2014-BT-STD-0042-0023. AHRI and its members stated that they need more time to sufficiently review and digest the information in order to provide substantive comments. A reopening of the comment period would allow additional time for AHRI and its members and other interested parties to examine the data, information, and analysis presented in the Commercial Water Heaters Technical Support Document, to gather any additional data and information to address the proposed standards, and to submit comments to DOE. DOE also received requests from Raypak on July 25, 2016 and Spire on July 28, 2016 asking for additional time to carefully review the information provided by DOE and to provide substantive comments. Raypak's request can be found at: http://www.regulations.gov/document?D=EERE-2014-BT-STD-0042-0025. Spire's request can be found at: http://www.regulations.gov/document?D=EERE-2014-BT-STD-0042-0026. After carefully considering the requests for additional time, DOE has determined that a reopening of the public comment period is appropriate, based upon the foregoing reasons. DOE believes that reopening the comment period until August 30, 2016 will provide the public with sufficient time to submit comments responding to DOE's proposed energy conservation standards. Accordingly, DOE is reopening the comment period to midnight of August 30, 2016 and will deem any comments received by that date to be timely submitted. DOE further notes that any submissions of comments or other information submitted between the original comment end date and the reopening of the comment period will be deemed timely filed.

Issued in Washington, DC, on July 28, 2016.
Kathleen B. Hogan,
Deputy Assistant Secretary for Energy Efficiency, Energy Efficiency and Renewable Energy.

[FR Doc. 2016-18674 Filed 8-4-16; 8:45 am]

BILLING CODE 6450-01-P